DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., CFM, Acting Section Chief, Engineering Management Section, Mitigation Division, 500 C Street SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground *Elevation in feet (NGVD) +Elevation in feet (NAVD) Modified
Madera County, California
Docket No.: FEMA-B-7432
California | Madera County | San Joaquin River | At State Highway 145 | *225
|  |  | Just upstream of State Highway 99 | *244
|  |  | Approximately 5,000 feet upstream of Atchison, Topeka and Santa Fe Railroad | *251
# Depth in feet above ground.
* National Geodetic Vertical Datum.
+ North American Vertical Datum.
ADDRESSES
Madera County Unincorporated Areas
Maps are available for inspection at the Madera County Planning Department, 135 West Yosemite Avenue, Madera, California 93637.
San Joaquin County, California
Docket No.: FEMA-B-7445
California | San Joaquin County | Stanislaus River | Approximately 5 miles downstream of State Highway 99 | *45
|  |  | Approximately 3 miles upstream of Santa Fe Railroad | *93
California | City of Ripon, San Joaquin County | Stanislaus River | Approximately 3.3 miles downstream of State Highway 99 | *48
|  |  | Approximately 1.3 miles upstream of State Highway 99 | *57
# Depth in feet above ground.
* National Geodetic Vertical Datum.
+ North American Vertical Datum.
ADDRESSES
San Joaquin County Unincorporated Areas
Maps are available for inspection at the Department of Public Works, 1810 East Hazelnut Avenue, Stockton, California 95202.
City of Ripon
Maps are available for inspection at City Hall, 259 North Wilma Avenue, Ripon, California 95366.
Shasta County, California
Docket No.: FEMA-B-7453
California | City of Redding, Shasta County | Churn Creek | Approximately 250 feet upstream of (Upper) Churn Creek Road | *465
|  |  | Approximately 3,350 feet upstream of (Upper) Churn Creek Road | *471
California | Shasta County | Churn Creek | At the confluence of Churn Creek and the Sacramento River | *410
|  |  | Approximately 250 feet upstream of (Upper) Churn Creek Road | *465
# Depth in feet above ground.
* National Geodetic Vertical Datum.
+ North American Vertical Datum.
ADDRESSES
City of Redding
Maps are available for inspection at the County Courthouse, 1855 Placier Street, Redding, California 96001.
Shasta County Unincorporated Areas
Maps are available for inspection at City Hall, 777 Cypress Avenue, 1st Floor, Redding, California 96001.
Linn County, Iowa
Docket No.: FEMA-B-7453
Iowa | Linn County | Long Branch Creek | Just upstream of Highway 11 | +735
|  |  | Approximately 1,800 feet downstream of Iva Road | +737
Iowa | Linn County | West Yellow Creek | Approximately 2,000 feet downstream | +727
|  |  | Just downstream of Highway 11 | +734
# Depth in feet above ground.
* National Geodetic Vertical Datum.
+ North American Vertical Datum.
ADDRESSES
Linn County Unincorporated Areas
Maps are available for inspection at the Linn County, County Courthouse 108 North High Street, Linneus, Missouri 64653.
Tama County, Iowa
Docket No.: FEMA-B-7453
Iowa | Tama County | Deer Creek | Approximately 2,700 feet upstream of confluence of Deer Creek with Iowa River | +819
|  |  | Approximately 400 feet downstream of 13th Street | +823
Iowa | Tama County | Iowa River | Approximately 1,400 feet downstream of Iowa River | +784
|  |  | Approximately 2 miles upstream of Station Street | +788
Iowa | Tama County | Iowa River at City of Tama | Approximately 7,000 feet downstream of U.S highway 63 | +814
|  |  | Approximately 1,800 feet upstream of confluence of Deer Creek with Iowa River | +819
Iowa | Tama County | Mud Creek | At confluence with Iowa River | +814
|  |  | Just downstream of 9th Street | +836
Iowa | Tama County | Otter Creek | Just west of the intersection of Station Street Highway 212 | +785
# Depth in feet above ground.
* National Geodetic Vertical Datum.
+ North American Vertical Datum.
ADDRESSES
Tama County Unincorporated Areas:
Maps are available for inspection at the 100 North Main Street, Toledo, Iowa 52342.
Plymouth County, Massachusetts
Docket No.: FEMA-D-7624
Massachusetts | Town of Marshfield, Plymouth County | Massachusetts Bay, Duxbury Marsh | Approximately 300 feet southwest of the intersection of Careswell Street and Colby Hewitt Lane | *10
|  |  | Approximately 1,700 feet southeast of the intersection of Careswell Street and Colby Hewitt Lane | *13
Massachusetts | Town of Marshfield, Plymouth County | Massachusetts Bay | Approximately 1,500 feet north of the intersection of Bay Street and Canal Street | *11
|  |  | Approximately 896 feet east of the intersection of Cove Street and Central Street | *23
Massachusetts | Town of Marshfield, Plymouth County | Massachusetts Bay, Green Harbor River | Approximately 400 feet west of the intersection of Meetinghouse Lane and Stagecoach Drive | *10
Massachusetts | Town of Marshfield, Plymouth County | Massachusetts Bay | At the intersection of Hancock Street and Ashburton Avenue | #2
# Depth in feet above ground.
* National Geodetic Vertical Datum.
+ North American Vertical Datum.
ADDRESSES
Plymouth County Unincorporated Areas
Maps available for inspection at the Marshfield Town Hall, Building Department, 870 Moraine Street, Marshfield, Massachusetts.
Town of Marshfield
Maps available for inspection at the Marshfield Town Hall, Building Department, 870 Moraine Street, Marshfield, Massachusetts.
Burleigh County, North Dakota
Docket No.: FEMA-B-7439
North Dakota | City of Bismarck, Burleigh County | Missouri River | Approximately 3.8 miles upstream of confluence of Little Heart River | *1,632
|  |  | Approximately 1.7 miles upstream of Old Brunt Creek | *1,639
North Dakota | Burleigh County | Missouri River | Approximately 500 feet downstream of confluence of Apple Creek | *1,628
|  |  | Approximately 5.7 miles upstream of confluence Square Butte Creek | *1,644
North Dakota | Burleigh County | Brunt Creek | At confluence with Missouri River | *1,640
|  |  | Just upstream of North Dakota Highway 1804 | *1,650
# Depth in feet above ground.
* National Geodetic Vertical Datum.
+ North American Vertical Datum
ADDRESSES
City of Bismarck
Maps are available for inspection at the Building Inspection Office, 1020 East Central Avenue, Bismarck, North Dakota 58501.
Burleigh County Unincorporated Areas
Maps are available for inspection at the Building Inspection Office, 1020 East Central Avenue, Bismarck, North Dakota 58501.
Burleigh County, North Dakota
Docket No.: FEMA-B-7449
North Dakota | City of Lincoln, Burleigh County | Apple Creek | Just upstream of Railroad | +1,644
|  |  | Approximately 5,000 feet downstream of confluence of Hay Creek | +1,646
# Depth in feet above ground.
* National Geodetic Vertical Datum.
+ North American Vertical Datum.
ADDRESSES
City of Lincoln
Maps are available for inspection at City Hall, 74 Santee Road, Lincoln, North Dakota 58504.
Summit County, Utah
Docket No.: FEMA-B-7453
Utah | Summit County | East Canyon Creek | Approximately 2,200 feet upstream of confluence with Threemile Canyon Creek | +6,313
|  |  | Approximately 150 feet of upstream of Bitner Branch Road | +6,375
Utah | Summit County | Kimball Creek | At confluence with North Parkley's Park Drainage | +6,375
|  |  | Just downstream of Old Ranch Road Canal | +6,438
Utah | Summit County | McLeod Creek | At Canal Entrance Culvert | +6,506
|  |  | Approximately 350 feet | +6,629
Utah | Summit County | North Parkley's Park Drainage | At the confluence with Kimball Creek | +6,375
|  |  | Approximately 15,800 feet upstream of confluence with Kimball Creek | +6,430
Utah | Summit County | Red Pine Creek | At confluence with McLeod Creek | +6,538
|  |  | Approximately 100 feet downstream of Route 224 | +6,694
Utah | Summit County | McLeod Creek through Quarry Mountain | Just upstream of Old Ranch Road Canal | +6,438
|  |  | At divergence from McLeod Creek | +6,584
# Depth in feet above ground.
* National Geodetic Vertical Datum.
+ North American Vertical Datum.
ADDRESSES
Summit County Unincorporated Areas:
Maps are available for inspection at Summit County Courthouse, 60 North Main, Coalville, Utah 84017.
Shenandoah County, Virginia
Docket No.: FEMA-B-7453
Virginia | Shenandoah County | Stony Creek | Approximately 1,150 feet downstream of Dellinger Acres Road | *1,082
|  |  | Approximately 1.63 miles upstream of Lake Laura Dam | *1,375
# Depth in feet above ground.
* National Geodetic Vertical Datum.
+ North American Vertical Datum.
ADDRESSES
Shenandoah County Unincorporated Areas
Maps are available for inspection at Planning and Zoning Office, 600 North Main Street, Suite 107, Woodstock, VA 22664.
Ferry County, Washington
Docket No.: FEMA-B-7453
Washington | Ferry County | Sanpoil River | At border with Colville Indian Reservation | +2,025
|  |  | Approximately 600 feet upstream of Fish Hatchery Road (Route 21) | +2,430
# Depth in feet above ground.
* National Geodetic Vertical Datum.
+ North American Vertical Datum.
ADDRESSES
Ferry County Unincorporated Areas
Maps are available for inspection at County Courthouse, 290 East Tessie Avenue, Republic, Washington 99166.

Flooding source(s) | Location of referenced elevation | * Elevation in feet (NGVD) + Elevation in feet (NAVD) # Depth in feet above ground Modified | Communities affected
Fresno County, California and Incorporated Areas
Docket No.: FEMA-B-7432
San Joaquin River | At State Highway 145 Just upstream of State Highway 99 Approximately 5,000 feet upstream of Atchison, Topeka and Santa Fe Railroad | * 225 * 244 * 251 | City of Fresno, Fresno County (Unincorporated Areas).
# Depth in feet above ground
* National Geodetic Vertical Datum
+ North American Vertical Datum
ADDRESSES
Fresno County (Unincorporated Areas)
Maps are available for inspection at the Fresno County Department of Public Works and Planning, 2220 Tulare Street, Fresno, California 93721.
City of Fresno
Maps are available for inspection at City Hall, 2600 Fresno Street, Room 3043, Fresno, California 93721.
Merced County, California and Incorporated Areas
Docket No.: FEMA-B-7437
Bear Creek | At McKee Road | * 183 | Merced County (Unincorporated Areas).
| Just upstream of Bear Creek Drive | * 255
Black Rascal | At confluence with Bear Creek | * 199 | Merced County (Unincorporated Areas).
Diversion Channel | Approximately 3,700 feet upstream of East Olive Avenue | * 202 | Merced County (Unincorporated Areas).
Local Ponding | Northeast of the intersection of East Childs Avenue and the Fairfield Canal | * 200 | Merced County (Unincorporated Areas), City of Merced.
| Northeast of the intersection of Mission Avenue and South Arboleda Drive | * 200
Local Ponding | Northeast of the intersection of East Childs Avenue and Tower Road | * 196 | Merced County (Unincorporated Areas), City of Merced.
| Southeast of the intersection of Le Grand Road and US Highway 99 | * 196
| Northeast of the intersection of Gerarad Avenue and the Fairfield Canal | * 196
Local Ponding | Northeast of the intersection of Mission Avenue and the Fairfield Canal | * 193 | Merced County (Unincorporated Areas), City of Merced.
| Northeast of the intersection of East Childs Avenue and Kirby Road | * 191
Local Ponding | Northeast of the intersection of State Highway 140 and East Street | * 190 | Merced County (Unincorporated Areas), City of Merced.
| Southeast of the intersection of US Highway 99 and Mariposa Way | * 189
Local Ponding | Northeast and Southeast of the intersection of East Childs Avenue and the Hartley Bradley Lateral | * 186 | Merced County (Unincorporated Areas), City of Merced.
Local Ponding | Southeast of the intersection of US Highway 99 and Vassar Avenue | * 183 | Merced County (Unincorporated Areas).
Local Ponding | Southeast of the intersection of US Highway 99 and Mission Avenue | * 179 | Merced County (Unincorporated Areas).
| Northeast of the intersection of Sandy Mush Road and Givens-Lustre Road | * 179
Local Ponding | Northeast and Southeast of the intersection of US Highway 99 and McHenry Road | * 185 | Merced County (Unincorporated Areas).
Local Ponding | Southeast of the intersection of East Childs Avenue and Carol Avenue | * 176 | City of Merced.
Local Ponding | Northeast of the intersection of Mission Avenue and Tyler Road | * 165 | Merced County (Unincorporated Areas).
Local Ponding | Northeast of the intersection of Healy Road and Deadman Creek | * 164 | Merced County (Unincorporated Areas).
Local Ponding | Northeast of the intersection of State Highway 59 and Duck Slough | * 151 | Merced County (Unincorporated Areas).
Local Ponding | Northeast of the intersection of Mariposa Way and Burchell Avenue | * 237 | Merced County (Unincorporated Areas).
Local Ponding | Northeast of the intersection of Gerard Avenue and Plainsburg Avenue | * 226 | Merced County (Unincorporated Areas).
Local Ponding | Southeast of the intersection of Kadota Avenue and Plainsburg Road | * 222 | Merced County (Unincorporated Areas).
Shallow Flooding | From the intersection of Woodland Avenue South and West to State Highway 59 | # 1 | Merced County (Unincorporated Areas), City of Merced.
| From the AT & SF Railroad West to State Highway 59 | # 1
Shallow Flooding | From the AT & SF Railroad West to State Highway 59 | # 2 | Merced County (Unincorporated Areas).
Shallow Flooding | Northeast of the intersection of State Highway 59 and Duck Slough | # 3 | Merced County (Unincorporated Areas).
# Depth in feet above ground.
* National Geodetic Vertical Datum.
+ North American Vertical Datum.
ADDRESSES
Merced County (Unincorporated Areas)
Maps are available for inspection at Merced County Department of Public Works, 715 Martin Luther King Jr. Way, Merced, California 95340.
City of Merced
Maps are available for inspection at City Hall, 678 West 18th Street, Merced, California 95340.
Coweta County, Georgia and Incorporated Areas
Docket No.: FEMA-B-7453
Little Wahoo Creek | Approximately 130 feet upstream of confluence with Wahoo Creek | + 800 | Coweta County (Unincorporated Areas).
| Approximately 1,100 feet upstream of confluence with Wahoo Creek | + 800
Snake Creek | Approximately 170 feet upstream of confluence with Wahoo Creek | + 796 | Coweta County (Unincorporated Areas).
| Approximately 4,200 feet upstream of confluence with Wahoo Creek | + 801
Tributary 1 to Persimmon Creek | At confluence with Persimmon Creek | + 866 | Coweta County (Unincorporated Areas).
| Approximately 120 feet upstream of confluence with Permission Creek | + 866
Tributary 1 to Snake Creek | At confluence with Snake Creek | + 873 | City of Newman.
| Approximately 40 feet upstream of confluence with Snake Creek | + 873
Tributary 2 to Mineral Spring Branch | At confluence with Mineral Spring Branch | + 830 | Coweta County (Unincorporated Areas).
| Approximately 780 feet upstream of Fourth Street | + 830
Tributary 2 to Sandy Creek | At confluence with Tributary 3 to Sandy Creek | + 793 | Coweta County (Unincorporated Areas).
| Approximately 30 feet upstream of confluence with Tributary 3 to Sandy Creek | + 793
Tributary 2 to Shoal Creek | Approximately 500 feet upstream of confluence with Shoal Creek | + 839 | Coweta County (Unincorporated Areas).
| Approximately 1,720 feet upstream of confluence with Shoal Creek | + 839
Tributary 3 to Shoal Creek | Approximately 140 feet upstream of confluence with Shoal Creek | + 854 | Coweta County (Unincorporated Areas).
| Approximately 500 feet upstream of confluence with Shoal Creek | + 854
Tributary 3 to Wahoo Creek | Approximately 110 feet upstream of confluence with Tributary 2 to Wahoo Creek | + 868 | City of Newman.
| Just downstream of Bullsboro Drive/State Highway 34 | + 869
Tributary 4 to Wahoo Creek | Approximately 100 feet upstream of confluence with Tributary 3 to Wahoo Creek | + 873 | City of Newman.
| Approximately 650 feet upstream of confluence with Tributary 3 to Wahoo Creek | + 873
Tributary 6 to Wahoo Creek | At confluence with Tributary 2 to Wahoo Creek | + 881 | City of Newman.
| Approximately 160 feet upstream of confluence with Tributary 2 to Wahoo Creek | + 881
Tributary 9 to Wahoo Creek | At confluence with Wahoo Creek | + 875 | City of Newman.
| Approximately 600 feet upstream of confluence with Wahoo Creek | + 875
Tributary 10 to Wahoo Creek | Approximately 220 feet upstream of confluence with Wahoo Creek | + 882 | City of Newman.
| Approximately 420 feet upstream of confluence with Wahoo Creek | + 882
Tributary 12 to Wahoo Creek | At confluence with Wahoo Creek | + 891 | City of Newman.
| Approximately 270 feet upstream of confluence with Wahoo Creek | + 896
# Depth in feet above ground.
* National Geodetic Vertical Datum.
+ North American Vertical Datum.
ADDRESSES
City of Newman
Maps are available for inspection at the Community Map Repository, 25 LaGrange Street, Newman, Georgia.
Coweta County (Unincorporated Areas)
Maps are available for inspection at the Community Map Repository, 22 East Broad Street, Newman, Georgia.
Henry County, Georgia and Incorporated Areas
Docket Nos.: FEMA-B-7454 and FEMA-P7903
Little Cotton Indian Creek | At confluence with Big Cotton Indian Creek | + 655 | Henry County (Unincorporated Areas).
| Approximately 1,000 feet upstream of the confluence with Big Cotton Indian Creek | + 655
# Depth in feet above ground.
* National Geodetic Vertical Datum.
+ North American Vertical Datum.
ADDRESSES
Henry County, Georgia (Unincorporated Areas)
Maps are available for inspection at the Community Map Repository, 140 Henry Parkway, McDonough, Georgia 30253.
Berrien County, Michigan and Incorporated Areas
Docket No.: FEMA-B-7453
Bedortha Drain | Just downstream of Lake Street | * 617 | City of Bridgman.
| 250 feet upstream of Railroad | * 637
Bridgman City Drain | Confluence of Bedortha Drain | * 627 | City of Bridgman.
| Approximately 1,250 feet upstream of Railroad | * 644
Bridgman Drain Tributary | Confluence with Bridgman City Drain | * 631 | City of Bridgman.
| Approximately 370 feet downstream of Railroad | * 632
Lake Michigan | Shoreline for entire county | * 585 | Benton Township, Benton Harbor, Bridgman, Chikaming Township, Grand Beach, Hagar Township, Lake Township, Lincoln Township, Michiana, New Buffalo, New Buffalo Township, Shoreham, St. Joseph.
Tanner Creek | Confluence with Lake Michigan | * 585 | City of Bridgman.
| Confluence with Bedortha Drain | * 617
William & Esseg Drain | Confluence with Tanner Creek | * 617 | City of Bridgman.
| Bridgman City Limit | * 630
# Depth in feet above ground.
* National Geodetic Vertical Datum.
+ North American Vertical Datum.
ADDRESSES
City of Benton Harbor
Maps are available for inspection at Benton Harbor City Hall, 200 E. Wall Street, Benton Harbor, Michigan 49023.
Benton Township
Maps are available for inspection at Inspection Department—Benton Township, 1725 Territorial Road, Benton Harbor, Michigan 49022.
City of Bridgman
Maps are available for inspection at Bridgman City Hall, 9765 Maple Street, Bridgman, Michigan 49106.
Chikaming Township
Maps are available for inspection at Chikaming Township, 14900 Lakeside Road, Lakeside, Michigan 49116.
Village of Grand Beach
Maps are available for inspection at Village Office of Grand Beach, 48200 Perkins Boulevard, Grand Beach, Michigan 49117.
Hagar Township
Maps are available for inspection at Hager Township Hall, 3900 Riverside, Riverside, Michigan 49084.
Lake Township
Maps are available for inspection at Lake Township Hall, 3220 Shawnee Road, Bridgman, Michigan 49106.
Lincoln Township
Maps are available for inspection at 2055 West John Beers Road, Stevensville, Michigan 49127.
Village of Michiana
Maps are available for inspection at Village of Michiana, 4000 Cherokee Drive, Michiana, Michigan 49117.
City of New Buffalo
Maps are available for inspection at City Clerks Office—New Buffalo City Hall, 224 West Buffalo Street, New Buffalo, Michigan 49117.
New Buffalo Township
Maps are available for inspection at Town Hall—New Buffalo Township, 17425 Red Arrow Highway, New Buffalo, Michigan 49117.
Village of Shoreham
Maps are available for inspection at St. Joseph Town Hall—Building & Zoning Department, 3000 Washington Avenue, St. Joseph, Michigan 49085.
City of St. Joseph
Maps are available for inspection at City of St. Joseph, 700 Broad Street, St. Joseph, Michigan 49085.
Blaine County, Montana and Incorporated Areas
Docket No.: FEMA-B-7454
Milk River | Approximately 2.5 river miles downstream of U.S Highway 2 | + 2,287 | Blaine County (Unincorporated Areas), Fort Belknap Indian Reservation.
| Approximately 4.7 river miles upstream of Kennedy Road | + 2,360
Peoples Creek | At confluence with Milk River | + 2,297 | Fort Belknap Indian Reservation.
| Approximately 11.5 miles upstream of confluence with Milk River (approximately 2.8 miles upstream of Road Bridge) | + 2,339
Peoples Creek-Split Flow | Approximately 1.2 river miles upstream of confluence with South Dodson Canal | + 2,288 | Fort Belknap Indian Reservation.
| Approximately 3.2 river miles upstream of Lodgepole Highway | + 2,319
# Depth in feet above ground.
* National Geodetic Vertical Datum.
+ North American Vertical Datum.
ADDRESSES
Blaine County Unincorporated Areas
Maps are available for inspection at the County Courthouse, 400 Ohio Street, Chinook, Montana 59523.
Fort Belknap Indian Reservation
Maps are available for inspection at the Tribal Office Building, Highway 2 & Route 66, Harlem, Montana 59526.
Snohomish County, Washington and Incorporated Areas
Docket No.: FEMA-B-7442
Ebey Slough | Approximately 1.2 miles downstream of Interstate Highway 5 | * 8 | Snohomish County (Unincorporated Areas), City of Marysville.
| At divergence from Snohomish River | * 19
Ebey-Steamboat Slough Connector | At confluence with Steamboat Slough | * 12 | Snohomish County (Unincorporated Areas).
| At divergence from Ebey Slough | * 12
Marshland | At Burlington Northern Railroad tracks | * 20 | Snohomish County (Unincorporated Areas) and City of Everett.
| At divergence from Snohomish River | * 23
Snohomish River | Approximately 1.2 miles downstream of State Highway 529 | * 8 | Snohomish County (Unincorporated Areas), City of Monroe, City of Snohomish, and City of Everett.
| At confluence with Skykomish and Snoqualmie Rivers | * 41
Steamboat Slough | Approximately 2.08 miles downstream of Burlington Northern Railroad bridge | * 8 | Snohomish County (Unincorporated Areas), City of Marysville, and City of Everett.
| At divergence from Snohomish River | * 13
Union Slough | Approximately 0.24 miles downstream of Burlington Northern Railroad bridge | * 8 | Snohomish County (Unincorporated Areas) and City of Everett.
| Approximately 1,270 feet downstream of divergence from Snohomish River | * 12
# Depth in feet above ground.
* National Geodetic Vertical Datum.
+ North American Vertical Datum.
ADDRESSES
Unincorporated Areas of Snohomish County
Maps are available for inspection at the Snohomish County Planning Department, 3000 Rockefeller Avenue, Everett, Washington 98201.
City of Monroe
Maps are available for inspection at the Engineering Department, City Hall, 806 West Main Street, Monroe, Washington 98272.
City of Marysville
Maps are available for inspection at the Public Works Department, 80 Columbia Avenue, Marysville, Washington 98270.
City of Everett
Maps are available for inspection at the Public Works Department, 3200 Cedar Street, Everett, Washington 98201.
City of Snohomish
Maps are available for inspection at the Engineering Department, 116 Union Avenue, Snohomish, Washington 98290.

(Catalog of Federal Domestic Assistance No. 83.100, “Flood Insurance.”)

Dated: October 18, 2006.
David I. Maurstad,
Director, Mitigation Division, Federal Emergency Management Agency, Department of Homeland Security.

[FR Doc. E6-18306 Filed 10-31-06; 8:45 am]

BILLING CODE 9110-12-P